SOCIAL SECURITY ADMINISTRATION

[Docket No. SSA-2009-0004]

Future Systems Technology Advisory Panel Meeting

AGENCY: Social Security Administration (SSA).

ACTION: Notice of second panel meeting.

DATES: February 9, 2009, 9:15 a.m.-5 p.m. and February 10, 2009, 8:30 a.m.-12 p.m.

Location: Hilton Baltimore Hotel.

ADDRESSES: 401 West Pratt Street, Baltimore, MD 21201.

SUPPLEMENTARY INFORMATION:

Type of meeting: The meeting is open to the public.

Purpose: The Panel, under the Federal Advisory Committee Act of 1972, as amended, (hereinafter referred to as “the FACA”) shall report to and provide the Commissioner of Social Security independent advice and recommendations on the future of systems technology and electronic services at the agency five to ten years into the future. The Panel will recommend a road map to aid SSA in determining what future systems technologies may be developed to assist in carrying out its statutory mission. Advice and recommendations can relate to SSA's systems in the area of internet application, customer service, or any other arena that would improve SSA's ability to serve the American people.

Agenda: The Panel will meet on Monday, February 9, 2009 from 9:15 a.m. until 5 p.m. and Tuesday, February 10, 2009 from 8:30 a.m. to 12 p.m. The agenda will be available on the Internet at http://www.ssa.gov/fstap/index.htm or available by e-mail or fax on request, one week prior to the starting date.

During the second meeting, the Panel will continue to receive additional information about the agency, its operations, and its programs. The meeting will also include a dialogue with the senior executives of the agency to answer panel questions. This dissemination of information and discussion with the executives will enable panel members to gain a broader and more in-depth understanding of the agency and its operations.

Contact Information: Records are kept of all proceedings and will be available for public inspection by appointment at the Panel office. Anyone requiring information regarding the Panel should contact the staff by:

Mail addressed to SSA, Future Systems Technology Advisory Panel, Room 800, Altmeyer Building, 6401 Security Boulevard, Baltimore, MD 21235-0001; Telephone at 410-965-6011; Fax at 410-965-0201; or e-mail to FSTAP@ssa.gov.

Dated: January 14, 2009.
Dianne L. Rose,
Designated Federal Officer, Future Systems Technology Advisory Panel.

[FR Doc. E9-1345 Filed 1-22-09; 8:45 am]

BILLING CODE 4191-02-P